DEPARTMENT OF LABOR

Employment and Training Administration

Comment Request for Information Collection for the Impact Evaluation of the YouthBuild Program; New Collection

AGENCY: Employment and Training Administration (ETA), Labor.

ACTION: Notice.

SUMMARY: The Department of Labor (Department), as part of its continuing effort to reduce paperwork and respondent burden, conducts a preclearance consultation program to provide the public and other Federal agencies with an opportunity to comment on proposed and/or continuing collections of information in accordance with the Paperwork Reduction Act of 1995 (PRA) [44 U.S.C. 3506(c)(2)(A)]. This program helps to ensure that required data can be provided in the desired format, reporting burden (time and financial resources) is minimized, collection instruments are clearly understood, and the impact of collection requirements on respondents can be properly assessed.

The Department notes that a Federal agency cannot conduct or sponsor a collection of information unless it is approved by the Office of Management and Budget (OMB) under the PRA, and displays a currently valid OMB control number, and the public is not required to respond to a collection of information unless it displays a currently valid OMB control number. Also, notwithstanding any other provisions of law, no person shall be subject to penalty for failing to comply with a collection of information if the collection of information does not display a currently valid OMB control number (see 5 CFR 1320.5(a) and 1320.6). This information collection request (ICR) consists of three follow-up surveys for youth who were randomly assigned to either a treatment group or control group. The surveys will be fielded 12-, 30- and 48-months after random assignment into the study groups. This package requests clearance for these follow-up surveys and related respondent materials.

DATES: Written comments must be submitted to the office listed in the addresses section below on or before July 16, 2012.

ADDRESSES: Send comments to Eileen Pederson, U.S. Department of Labor, Employment and Training Administration, Office of Policy Development and Research, 200 Constitution Avenue NW., Frances Perkins Bldg., Room N-5641, Washington, DC 20210. Telephone number: (202) 693-3647 (this is not a toll-free number). Email address: pederson.eileen@dol.gov. Fax number: (202) 693-2766 (this is not a toll-free number).

SUPPLEMENTARY INFORMATION:

I. Background

The Impact Evaluation of the YouthBuild program is a 7-year experimental design impact evaluation funded by the ETA. This information collection covers the follow-up surveys administered to study participants at 12-, 30- and 48-months after random assignment. YouthBuild is a youth and community development program that addresses several core issues facing low-income communities: Available housing, youth education, employment and criminal behavior. The program primarily serves high school dropouts and focuses on helping them attain a high school diploma or general educational development, or GED, and teaching them construction skills geared toward career placement. The evaluation will measure core program outcomes including educational attainment, postsecondary planning, employment, earnings, delinquency and involvement with the criminal justice system and social and emotional development. The evaluation represents an important opportunity for the Department to add to the growing body of knowledge about the impacts of “second chance” programs for youth who have dropped out of high school. Compared to peers who remain in school, high school dropouts are more likely to be disconnected from school and work, incarcerated, unmarried, and have children outside of marriage.

The evaluation of the YouthBuild program will address the following research questions:

• Operation: How is YouthBuild designed in each participating site? What are the key implementation practices that affect how the program operates? How does the local context affect program implementation and the services available to members of the control group?

• Participation: What are the characteristics of youth who enroll in the study? How are these characteristics shaped by YouthBuild recruitment and screening practices?

• Impacts: What are YouthBuild's impacts on educational attainment, planning, and aspirations? What are YouthBuild's impacts on employment, earnings, and job characteristics? What are YouthBuild's impacts on crime and delinquency? What are the program's impacts on social-emotional development, identity development, and self-regulation?

• Costs: How does the net cost per participant compare with the impacts the program generates?

The evaluation study started in June 2010 and is scheduled to continue until July 2017. MDRC, the prime contractor, is working with Mathematica Policy Research and Social Policy Research Associates to design and implement the evaluation. The study includes a baseline information collection, a Web-based questionnaire and a Web-based survey of YouthBuild grantees, site-specific qualitative and cost data, and three mixed-mode (Web and computer-assisted telephone interviewing) surveys of youth that will take place 12-, 30- and 48 months after random assignment.

The target population for the study is out-of-school youth aged 16-24, who are from low-income families, in foster care, offenders, migrants, disabled, or are children of incarcerated parents. Of the universe of YouthBuild programs, the study team will recruit 83 sites (60 Department-funded sites and 23 sites that did not receive Fiscal Year 2011 funding from the Department but did receive funding from the Corporation for National and Community Service [CNCS], referred to hereafter as CNCS-funded programs) and will seek to enroll 3,465 eligible participants into the study. Study participants will be randomly assigned to either the treatment group, which will be eligible for YouthBuild services, or to the control group which will not be eligible. Study participants will be followed for 4 years after random assignment.

Data for the study will be collected from YouthBuild grantees and from study participants through the following methods:

(1) Grantee Questionnaire and Site Visits. A grantee survey will provide information about the grantee sites that run individual YouthBuild programs. The grantee survey is mandatory and will be administered after programs are fully operational. It will request detailed information about the services each program offers, including the frequency and location of particular services, as well as more in-depth information about the staff and participants. The information from the grantee survey will be used to support the implementation analysis and will assess how outcomes may vary across YouthBuild program models. As part of the implementation analysis, the evaluation team will conduct site visits to all 83 sites. These visits will include classroom observations to assess the quality of instruction, youth focus groups, and semi-structured in-depth interviews with program staff and collect cost data to ascertain the cost of the program.

(2) Baseline Data Forms Completed by Sample Group Members. Prior to random assignment in the sites selected for this component of the study, all eligible youth participants will complete baseline data forms, which will include an Informed Consent Form, a Baseline Information Form, and a Contact Information Form. Taken together, these will provide participants with information about the study while collecting information for both future subgroup analysis and locating study participants during future study follow-ups.

(3) Three Follow-up Surveys of Sample Group Members. Members of both the treatment and control groups will complete follow-up surveys at 12-, 30-, and 48-months following random assignment. These surveys will request information about the services that participants have received through YouthBuild and other community service providers, as well as information about their educational attainment, postsecondary planning and engagement, employment, earnings, delinquency and involvement with the criminal justice system, and social and emotional development.

At this time, clearance is requested for the youth follow-up surveys.

II. Desired Focus of Comments

Currently, the Department is soliciting comments concerning the youth follow-up survey data collection for the Impact Evaluation of the YouthBuild Program. Comments are requested to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the information collection on those who are to respond, including the use of appropriate automated, electronic, mechanical, or other technological collection techniques or other forms of information technology, e.g., permitting electronic submissions of responses.

III. Current Actions

At this time, the Department is requesting clearance for the youth follow-up surveys.

Type of review: New information collection request.

Title: Impact Evaluation of the YouthBuild Program.

OMB Number: 1205—0NEW.

Affected Public: Low-income, disadvantaged youth and Department- and CNCS-funded YouthBuild Programs.

Cite/Reference/Form/etc: Workforce Investment Act of 1998 Section 172.

a. Youth Follow-up Surveys:

Frequency: Three times.

Total Responses: 8,316 (= 2,772 youth × three surveys).

Average Time per Response: 40 minutes per respondent for each response.

Estimated Total Burden Hours: 5,544 hours (= 2,772 responses × 40 minutes × three rounds).

Note that, due to rounding, the total amounts may differ from the sum of the components.

Comments submitted in response to this request will be summarized and/or included in the request for OMB approval of the ICR; they will also become a matter of public record.

Signed at Washington, DC, this 8th day of May 2012.
Jane Oates,
Assistant Secretary for Employment and Training.

[FR Doc. 2012-11719 Filed 5-14-12; 8:45 am]

BILLING CODE 4510-FN-P